DEPARTMENT OF HOMELAND SECURITY

Coast Guard

[Docket No. USCG-2013-0184]

National Offshore Safety Advisory Committee; Vacancies

AGENCY: United States Coast Guard, DHS.

ACTION: Request for applications.

SUMMARY: The United States Coast Guard is requesting applications from qualified candidates seeking consideration for appointment as members to the National Offshore Safety Advisory Committee (NOSAC). NOSAC advises the Secretary of the Department of Homeland Security (DHS) on matters and actions concerning activities directly involved with or in support of the exploration of offshore mineral and energy resources insofar as they relate to matters within Coast Guard jurisdiction.

DATES: Applicants should submit a cover letter and resume in time to reach the Alternate Designated Federal Officer (ADFO) on or before May 28, 2013.

ADDRESSES: Applicants should send their cover letter and resume via one of the following methods:

• By mail: Commandant (CG-OES-2), Attn: Vessel and Facility Operations Standards, U.S. Coast Guard, 2100 Second Street SW., STOP 7126, Washington, DC 20593-7126; or

• By phone: (202) 372-1437; or

• By fax: (202) 372-1926; or

• By email: Scott.E.Hartley@uscg.mil.

This notice, is available in our online docket, USCG-2013-0184, at http://www.regulations.gov.

FOR FURTHER INFORMATION CONTACT: Mr. Scott E. Hartley, ADFO of NOSAC; telephone (202) 372-1437; fax (202) 372-1926; email Scott.E.Hartley@uscg.mil or Commander Rob Smith, Designated Federal Officer (DFO) of NOSAC; telephone 202-372-1410; fax 202-372-1926; email at Robert.L.Smith@uscg.mil.

SUPPLEMENTARY INFORMATION: NOSAC is governed by the Federal Advisory Committee Act (FACA), 5 U.S.C. App. (Pub. L. 92-463) and was established under the authority of Title 6 U.S.C. Section 451 to advise the Secretary of DHS on matters and actions concerning activities directly involved with or in support of the exploration of offshore mineral and energy resources insofar as they relate to matters within Coast Guard jurisdiction.

The Committee expects to meet twice a year: April in New Orleans, LA and November in Houston, TX.

We will consider applications for the six positions listed below that will become vacant on January 31, 2014:

(a) One member representing companies, organizations, enterprises or similar entities engaged in the production of petroleum;

(b) One member representing companies, organizations, enterprises or similar entities engaged in offshore drilling;

(c) One member representing companies, organizations, enterprises or similar entities engaged in the support, by offshore supply vessels or other vessels, of offshore operations;

(d) One member representing companies, organizations, enterprises or similar entities providing safety and training services to the offshore industry;

(e) One member representing companies, organizations, enterprises or similar entities providing environmental protection, compliance or response services to the offshore industry; and

(f) One member representing companies, organizations, enterprises or similar entities engaged in offshore oil exploration and production on the Outer Continental Shelf of Alaska.

To be eligible, applicants for positions (a-f) should be employed by companies, organizations, enterprises or similar entities, have expertise, knowledge and experience regarding the technology, equipment and techniques that are used or are being developed for use in the exploration for, and the recovery of, offshore mineral resources.

Registered lobbyists are not eligible to serve on federal advisory committees. Registered lobbyists are lobbyists required to comply with provisions contained in the Lobbying Disclosure Act of 1995 (Pub. L. 104-65, as amended).

Each NOSAC member serves a term of office up to three years. Members may be considered to serve a maximum of three consecutive terms. All members serve at their own expense and receive no salary or reimbursement of travel expenses, or other compensation from the Federal Government.

DHS does not discriminate in employment on the basis of race, color, religion, sex, national origin, political affiliation, sexual orientation, gender identity, marital status, disabilities and genetic information, age, membership in an employee organization, or any other non-merit factor.

If you are interested in applying to become a member of NOSAC, send a cover letter stating the position you wish to represent, providing your expertise, knowledge and experience that qualify you for service on NOSAC. In addition, please include a Curriculum Vitae (CV) or resume containing your current home address, a current email address, a current telephone number, your qualifications and work experience. During the vetting process, applicants may be asked by the White House Liaison Office through the United States Coast Guard to provide their date of birth and social security number. To visit our online docket, go to http://www.regulations.gov, enter the docket number for this notice (USCG-2013-0184) in the Search box, and click “Go”. Please do not post your resume on this site.

Dated: March 21, 2013.
J.G. Lantz,
Director of Commercial Regulations and Standards.

[FR Doc. 2013-07088 Filed 3-26-13; 8:45 am]

BILLING CODE 9110-04-P